DEPARTMENT OF STATE

[Public Notice 4910]

Bureau of Diplomatic Security, Office of Foreign Missions, Diplomatic Motor Vehicles; 60-Day Notice of Proposed Information Collection: U.S. Department of State Driver's License and Tax Exemption Card Application; OMB Collection Number 1405-0105; Form DS-1972

ACTION: Notice.

SUMMARY: The Department of State is seeking Office of Management and Budget (OMB) approval for the information collection described below. The purpose of this notice is to allow 60 days for public comment in the Federal Register preceding submission to OMB. This process is conducted in accordance with the Paperwork Reduction Act of 1995. The Department of State has made minor changes to the wording of the form, but the data collected is unchanged.

The following summarizes the information collection proposal to be submitted to OMB:

• Title of Information Collection: U.S. Department of State Driver's License and Tax Exemption Card Application.

• OMB Control Number: 1405-0105.

• Type of Request: Regular Submission to extend a currently approved collection.

• Originating Office: Bureau of Diplomatic Security, Office of Foreign Missions (DS/OFM).

• Form Number: DS-1972.

• Respondents: Foreign missions that have personnel assigned to the United States: diplomatic, consular, administrative and technical, specified official representatives of foreign governments to international organizations, and their dependents.

• Estimated Number of Respondents: 350 foreign missions.

• Estimated Number of Responses: 14,000.

• Average Hours Per Response: 0.5 hours (30 minutes).

• Total Estimated Burden: 7,000 hours.

• Frequency: On occasion. (As often as is necessary for foreign missions to obtain/renew driver's licenses and/or tax exemption cards for foreign mission personnel.)

• Obligation to Respond: Required to Obtain or Retain a driver's license and/or tax exemption card.

The Department will accept comments from the public up to 60 days from date of publication in the Federal Register. You may submit comments by either of the following methods:

• E-mail: OFMCustomerService@state.gov. You must include the DS form number, information collection title, and OMB control number in the subject line of your message.

• Mail: U.S. Department of State, Office of Foreign Missions, Attn: Diplomatic Motor Vehicle Director, 3507 International Place, NW., State Annex 33, Washington, DC 20522-3302

FOR FURTHER INFORMATION CONTACT: Requests for additional information regarding the collection listed in this notice should be directed to Attn: Jacqueline Robinson, Diplomatic Motor Vehicle Director, Office of Foreign Missions, 3507 International Place, NW., State Annex 33, Washington, DC 20522-3302, who may be reached on (202) 895-3528 or RobinsonJD@state.gov.

SUPPLEMENTARY INFORMATION: Your public comments are being solicited to permit the agency to:

• Evaluate whether the proposed collection of information is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

The U.S. Department of State Driver License and Tax Exemption Card Application form (DS 1972) is the means by which foreign missions in the United States request the issuance of a driver license and/or a sales tax exemption card for foreign mission personnel and their dependents. The exemption from sales taxes and the operation of a motor vehicle in the United States by foreign mission personnel are benefits under the Foreign Missions Act, 22 U.S.C. 4301 et seq., which must be obtained by foreign missions through the U.S. Department of State, Office of Foreign Missions (DS/OFM). The DS-1972 application form provides OFM with the necessary information required to administer the two benefits effectively and efficiently. Sales tax exemption is enjoyed under the provisions of international law but is granted on the basis of reciprocity. The administration of driver licenses at the national level helps the Federal Government identify operators who repeatedly receive citations. This also helps the Federal Government determine the necessary course of action that may be required against an individual's driving privilege. Accordingly, the Federal Government is able to provide consistency to the diplomatic community on a national level through a uniform program.

Dated: October 15, 2004.
Lynwood M. Dent,
Deputy Assistant Secretary, Bureau of Diplomatic Security, Office of Foreign Missions, Department of State.

[FR Doc. 04-26410 Filed 11-29-04; 8:45 am]

BILLING CODE 4710-43-P